DEPARTMENT OF THE TREASURY

Internal Revenue Service

Open Meeting of the Small Business/Self Employed—Taxpayer Burden Reduction Issue Committee of the Taxpayer Advocacy Panel

AGENCY: Internal Revenue Service (IRS), Treasury.

ACTION: Cancellation notice.

SUMMARY: An open meeting of the Small Business/Self Employed Taxpayer Burden Reduction Issue Committee of the Taxpayer Advocacy Panel has been cancelled (via teleconference). The Taxpayer Advocacy Panel is soliciting public comments, ideas and suggestions on improving customer service at the Internal Revenue Service.

DATES: The meeting that was scheduled Tuesday, March 27, 2007 from 12:30 p.m. to 1:30 p.m. ET has been cancelled.

FOR FURTHER INFORMATION CONTACT: Marisa Knispel at 1-888-912-1227 or 718-488-3557.

SUPPLEMENTARY INFORMATION: Notice is hereby given pursuant to section 10 (a) (2) of the Federal Advisory Committee Act, 5 U.S.C. App. (1988) that an open meeting of the Small Business/Self Employed-Taxpayer Burden Reduction Issue Committee of the Taxpayer Advocacy Panel was cancelled for Tuesday, March 27, 2007, for 12:30 p.m. ET via a telephone conference call as published in the Federal Register on February 22, 2007. If you would like to have the TAP consider a written statement, please call 1-888-912-1227 or 718-488-3557 or write Marisa Knispel, TAP Office, 10 Metro Tech Center, 625 Fulton Street, Brooklyn, NY 11201. You may also post comments to the Web site: http://www.improveirs.org.

Dated: February 27, 2007.
John Fay,
Acting Director, Taxpayer Advocacy Panel.

[FR Doc. E7-3727 Filed 3-2-07; 8:45 am]

BILLING CODE 4830-01-P